DEPARTMENT OF HOMELAND SECURITY

Coast Guard

[Docket No. USCG-2019-0131]

Port Access Route Study: The Areas Offshore of Massachusetts and Rhode Island

AGENCY: Coast Guard, DHS.

ACTION: Notice of availability of draft report; request for comments.

SUMMARY: From March 26, 2019 through December 15, 2019, the Coast Guard conducted The Areas Offshore of Massachusetts and Rhode Island Port Access Route Study and is now requesting your comments on a draft version of the study report. The goal of the study is to enhance navigational safety in the study area by examining existing shipping routes and waterway uses. To accomplish this goal, the Coast Guard has undertaken measures to determine what, if any, navigational safety concerns currently exist with vessel transits, examine existing shipping routes and waterway uses, and evaluate the need for establishing vessel routing measures in light of current and anticipated future demands associated with offshore wind leases in the Massachusetts and Rhode Island Wind Energy Area. A draft version of the report is available in the docket for viewing. We seek your comments on the content and development of the report.

DATES: Your comments and related material must reach the Coast Guard on or before March 16, 2020.

ADDRESSES: You may submit comments identified by docket number USCG-2019-0131 using the Federal portal at https://www.regulations.gov. See the “Public Participation and Request for Comments” portion of the SUPPLEMENTARY INFORMATION section for further instructions on submitting comments.

FOR FURTHER INFORMATION CONTACT: If you have questions on this notice, contact Mr. Craig Lapiejko, Waterways Management at First Coast Guard District, telephone (617) 223-8351, email craig.d.lapiejko@uscg.mil.

SUPPLEMENTARY INFORMATION:

I. Table of Abbreviations

BOEM Bureau of Ocean Energy Management

CFR Code of Federal Regulations

DHS Department of Homeland Security

FR Federal Register

NEPA National Environmental Policy Act

OCS Outer Continental Shelf

PARS Port Access Route Study

U.S.C. United States Code

NM Nautical Mile

NMFS National Marine Fisheries Service

TSS Traffic Separation Scheme

WEA Wind Energy Area

WTGs Wind Turbine Generators

II. Background and Purpose

BOEM has leased seven adjacent areas of the OCS south of Martha's Vineyard and east of Rhode Island that together constitute the MA/RI WEA. Potentially seven distinct offshore renewable energy installations (“wind farms”) could be constructed, each with its own number, size, type of wind turbines, and distinct turbine layout. The topic of safe navigation routes to facilitate vessel transit through the MA/RI WEA has been discussed at various forums throughout southeastern New England. The forums have included participation by the Coast Guard, other federal, state, and local agencies, fishing industry representatives, and myriad stakeholders. Various different transit plans have been proposed through these different forums in which no consensus of all stakeholders was reached.

In response, on March 26, 2019, the Coast Guard published a Notice of Study and public meetings; request for comments entitled “Port Access Route Study (PARS): The Areas Offshore of Massachusetts and Rhode Island” in the Federal Register (84 FR 11314) to determine what routing measures, if any, may be necessary for navigation safety should any or all of the lease areas within the MA/RI WEA be partially or fully developed as wind farms. This undertaking is required by 46 U.S.C. 70003, which calls for the Coast Guard to conduct a port access route study prior to establishing fairways or traffic separation schemes (TSSs).

On April 10, 2019, we published a Notice of Public Meeting; request for comments entitled “Port Access Route Study (PARS): The Areas Offshore of Massachusetts and Rhode Island” in the Federal Register (84 FR 11384) announcing an additional public meeting to be held in Montauk, NY.

The public was afforded a 60-day comment period, and three public meetings were held (in Massachusetts, Rhode Island, and New York) to receive public input. The Coast Guard received 30 comments in response to our Federal Register Notice, public meetings and other outreach efforts. All comments and supporting documents are available in a public docket and can be viewed at http://www.regulations.gov. In the “Search” box insert “USCG-2019-0131” and click “Search.” Click the “Open Docket Folder” in the “Actions” column. In addition to a discussion of the comments in section III of this notice, a synopsis of the comments is contained in Appendix E of the report.

In August 2019, after public comment closed, the Coast Guard released Navigation Vessel Inspection Circular (NVIC) 01-19 GUIDANCE ON THE COAST GUARD'S ROLES AND RESPONSIBILITIES FOR OFFSHORE RENEWABLE ENERGY INSTALLATIONS (OREI). NVIC 01-19 provides further guidance to Coast Guard units and external stakeholders on factors the Coast Guard considers when evaluating risk in OREI. (Available in the docket folder)

In October 2019 two meetings occurred at the request of wind developers with interests in the MARIPARS study area. The first of those meetings occurred on October 9, 2019 at Coast Guard Headquarters in Washington, DC, and was attended by members of Coast Guard Headquarters staff, BOEM staff and representatives from the wind developers. During that meeting the developers presented a report that outlined a 1 NM by 1 NM uniform grid for turbine installation across all seven lease areas on a north to south and east to west orientation. A second meeting was held on October 17, 2019 at the First Coast Guard District in Boston, MA attended by Coast Guard Headquarters staff, First District Staff, Sector Southeastern New England staff, BOEM staff and wind developers discussing the same proposal. On November 1, 2019 the wind developers submitted a finalized version of their proposal to Coast Guard Headquarters requesting it be considered in the MARIPARS. (Available in the docket folder)

On January 3, 2020 the Responsible Offshore Development Alliance submitted a letter proposal to the Coast Guard, BOEM and NMFS addressing the developer letter dated November 1, 2019. That proposal supports the 1 NM by 1 NM uniform grid and suggests six additional transit lane corridors 4 NM wide. (Available in the docket folder)

The Coast Guard is a cooperating agency in BOEM's review process and has no legal authority to direct placement or orientation of wind turbines. The Coast Guard is opening this second MARIPARS comment period to facilitate transparent public discussions on the information above as well as the draft report findings to date.

III. Discussion of Comments

Comments were submitted by representatives of the maritime community, wind energy developers, non-governmental organizations, Federal and State governmental agencies, and private citizens.

Topics covered by the comments included the support for some type of designated navigation corridors of varying width and those opposed to any type of navigation corridors, concerns about Search and Rescue (SAR) within the WEA, review of a report of an allision between a vessel operating within a European wind farm and a wind turbine, potential for interference of marine radar, and concerns for wildlife conservation to include impacts to right whales.

Navigation Corridors

Various comments were received concerning navigation corridors. Some commenters said navigation corridors were not necessary, whereas others said they were essential to preserve clear lanes for vessels to transit. Prior to the lease and construction of these wind farms—each with its own number, size, type of wind turbines, and distinct array layout there was no need for a coordinated routing system through the study area. The draft MARIPARS report reveals that navigation corridors could be useful to reduce risks to navigation and the environment but ultimately recommends that if the MA/RI WEA turbine layout is developed along a standard and uniform grid pattern, standard vessel routing measures would not be required.

Search and Rescue

Several comments expressed concerns about the Coast Guard's ability to conduct effective search-and-rescue (SAR) operations within a wind farm. The Coast Guard has had similar concerns and believe we have addresses these in Section III.J. of the draft report. Ultimately, the Coast Guard recommends that if the MA/RI WEA turbine layout is developed along a standard and uniform grid pattern with at least three lines of orientation and standard spacing that this will help minimize the risk to SAR operations within the MA/RI WEA.

Review Report on an Allision Between a Vessel and Wind Turbine

Some commenters urged the Coast Guard to review a report on an allision between a vessel navigating within a European wind farm and an unlit wind turbine. We did review the report and address it in Section III.H.6. of the draft report. In March 2019, marineinsight.com reported about a 2012 incident. An accident investigation was conducted by the United Kingdom's Maritime and Coast Guard Agency (MCA) Marine Accident Investigation Board (MAIB). The MCA found the vessel's master at fault due to several contributing factors: Operating in 30 knot winds, in heavy seas, driving rain, at night, with excessive speed, and all without a proper lookout.

Radar Interference

Some commenters expressed their concerns about possible radar interference while transiting within the WEA. We address these comments in Section III.H.6. of the draft report were we discuss our review of several studies that address correlations between wind turbines and marine radar interference. To date, the USCG is not aware of an authoritative scientific study that confirms or refutes the concern that WTGs will degrade marine radar.

Wildlife Conservation and Protection of Right Whales

The Coast Guard received a comment requesting we consider vessel speeds in our evaluation of potential navigation routes, as cavitation and noise there from may adversely impact right whales. The Coast Guard will continue to consult with the National Oceanic and Atmospheric Administration, interagency partners and other stakeholders through the National Environmental Policy Act (NEPA) and marine planning processes as a necessary part of any action to formally establish routing measures associated with this or any other wind farm proposal.

IV. Information Requested

Do you agree or disagree with the draft report's recommendations, and if so, why?

V. Public Participation and Request for Comments

We encourage you to comment on the content and development of the report.

A. Submitting Comments: To submit your comment online, go to http://www.regulations.gov, and insert “USCG-2019-0131” in the “search box.” Click “Search”. Then click “Comment Now.”

We accept anonymous comments. All comments received will be posted, without change, to http://www.regulations.gov and will include any personal information you have provided.

We will consider all comments and material received during the comment period.

B. Viewing the comments and documents: To view the comments and documents mentioned in this preamble as being available in the docket, go to http://www.regulations.gov, click on the “read comments” box, which will then become highlighted in blue. In the “Keyword” box insert “USCG-2019-0131” and click “Search.” Click the “Open Docket Folder” in the “Actions” column.

C. Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316) https://www.federalregister.gov/documents/2008/01/17/E8-785/privacy-act-of-1974-system-of-records.

VI. Future Actions

Any comments received will be reviewed and considered before a final version of the MARIPARS is announced in the Federal Register.

This notice is published under the authority of 46 U.S.C. 70004 and 5 U.S.C. 552(a).

Dated: January 22, 2020.
A.J. Tiongson,
Rear Admiral, U.S. Coast Guard, Commander, First Coast Guard District.

[FR Doc. 2020-01522 Filed 1-28-20; 8:45 am]

BILLING CODE 9110-04-P